DEPARTMENT OF LABOR

Office of the Secretary

Submission for OMB Review; Comment Request

January 30, 2003.

The Department of Labor (DOL) has submitted the following public information collection requests (ICRs) to the Office of Management and Budget (OMB) for review and approval in accordance with the Paperwork Reduction Act of 1995 (Pub. L. 104-13), 44 U.S.C. Chapter 35). A copy of each individual ICR, with applicable supporting documentation, may be obtained by calling the Department of Labor. To obtain documentation contact Darrin King (202 693-4129 or by e-mail to King-Darrin@dol.gov).

Comments should be sent to Office of Information and Regulatory Affairs, Attn: OMB Desk Office, Office of Management and Budget, room 10235, Washington, DC 20503 (202 395-7316), within 30 days from date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, clarity of the information to be collected; and

• Minimize the burden of the collection of information on those who are to respond, including through the use of appropriate automated, electronic, mechanical, or other technological collection techniques or other forms of information technology; e.g., permitting electronic submission of responses.

Agency: Occupational Safety and Health Administration (OSHA).

Title: Process Safety Management of Highly Hazardous Chemicals (PSM) (29 CFR 1910.119).

OMB Number: 1218-0200.

Frequency: Annually (on occasion).

Affected Public: Business or other for-profit; Federal Government; State, Local or Tribal Government.

Number of Respondents: 38,717.

Estimated Time Per respondent: Varies from five minutes (.08) to generate, maintain and disclose training documentation to 2,454.4 hours to establish and implement a management of change program.

Total Burden Hours: 50,980,689.

Total annualized capital/startup cost: -0-.

Total annual cost (operating/maintaining systems or purchasing services): -0-.

Description: The collection of information in the standard is necessary for implementation of the requirements of the standards. The information is used by employers to assure that processes using highly hazardous chemical with the potential of a castrophic release are operated as safely as possible. The employer must thoroughly consider all facets of a process, as well as the involvement of employees in that process. Processes are analyzed by employers so that they identify and control problems that could lead to a major release, fire or explosion. The failure of employers to collect the information will significantly impact OSHA's effort to control and reduce injuries and fatalities in workplaces, which have the potential for highly hazardous chemical catastrophes.

Ira L. Mills,
Departmental Clearance Officer.

[FR Doc. 03-2723 Filed 2-4-03; 8:45 am]

BILLING CODE 4510-26-M